DEPARTMENT OF JUSTICE

Antitrust Division

Notice Pursuant to the National Cooperative Research and Production Act of 1993—Wireless Application Protocol Forum Ltd. (“WAP”)

Notice is hereby given that, on September 17, 1998, pursuant to Section 6(a) of the National Cooperative Research and Production Act of 1993, 15 U.S.C. 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, Alcatel, Columbes, Cedex, FRANCE; AT&T Wireless Services, Inc., Redmond, WA; BellSouth Cellular Corp., Atlanta, GA; Bosch Telecom Danmark A/S, Pandrup, DENMARK; Cellnet, Slough, UNITED KINGDOM; CMG Telecommunications & Utilities B.V., Utrecht, THE NETHERLANDS; Comverse Network Systems, Inc., Wakefield, MA; DDI Corporation, Tokyo, JAPAN; Dolphin Telecommunications Ltd., Basingstoke, UNITED KINGDOM; Gemplus, Gemenos, Cedex, FRANCE; IDO Corporation, Tokyo, JAPAN; Intel Corporation; Folsom, CA; Itochu Techno-Science Corp., Tokyo, JAPAN; Logica Aldiscon Ltd., Dublin, IRELAND; Mitsubishi, Sunnyvale, CA; NEC Technologies (UK) Limited, Slough, UNITED KINGDOM; PageNet Inc., Plano, TX; Philips Consumer Communications, LeMans, Cedex, FRANCE; Puma Technology, Inc., San Jose, CA; QUALCOMM, San Diego, CA; Rogers Cantel Inc., Toronto, Ontario, CANADA; RSA Data Security, Redwood City, CA; Samsung Electronics Co., Ltd., Suwon City, KOREA; SBC Technology Resources; Inc., Austin, TX; Shu-Chin Su Chen, Taiwan, REPUBLIC OF CHINA; Siemens AG, Munich, GERMANY; Sonera Corporation, Helsinki, FINLAND; Sprint Spectrum L.P., Kansas City, MO; SWISSCOM Limited, Berne, SWITZERLAND; Telenor Mobil, Oslo, NORWAY; Telia Mobile AB, Nacka Strand, SWEDEN; and Telstra Corporation Ltd., Sydney, New South Wales, AUSTRALIA have been added as parties to this venture.

No other changes have been made in either the membership or planned activity of the group research project. Membership in this group research project remains open, and Wireless Application Protocol Forum, Ltd. (“WAP”) intends to file additional written notification disclosing all changes in membership.

On March 18, 1998, Wireless Application Protocol forum, Ltd. (“WAP”) filed its original notification pursuant to Section 6(a) of the Act. A notice for this filing has not yet been published in the Federal Register.

The last notification was filed with the Department on May 13, 1998. A notice has not yet been published in the Federal Register.

Constance K. Robinson,
Director of Operations, Antitrust Division.

[FR Doc. 00-8080 Filed 3-31-00; 8:45 am]

BILLING CODE 4410-11-M